DEPARTMENT OF TRANSPORTATION

Federal Aviation Administration

14 CFR Part 73

[Docket No. FAA-2023-2555; Airspace Docket No. 23-AEA-18]

RIN 2120-AA66

Renaming of Restricted Areas R-6601A, R-6601B, and R-6601C; Fort AP Hill, VA

AGENCY: Federal Aviation Administration (FAA), Department of Transportation (DOT).

ACTION: Final rule; technical amendment.

SUMMARY: This action renames restricted areas R-6601A, R-6601B, and R-6601C, Fort AP Hill, VA, and updates the using agency description. Additionally, this action amends the geographic coordinates for multiple boundary points listed in the restricted areas to accurately align the existing boundary with United States (U.S.) Route 301 and U.S. Highway 17 referenced in the descriptions and adjacent Special Use Airspace (SUA). This action partially implements recommendations of the Commission on the Naming of Items (Naming Commission) of the Department of Defense (DoD) as established by section 370 of the Fiscal Year (FY) 2021 National Defense Authorization Act (NDAA).

DATES: Effective date 0901 UTC, March 21, 2024.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the airspace descriptions of restricted areas R-6601A, R-6601B, and R-6601C.

Background

The FY 2021 NDAA directed the DoD to establish a commission relating to assigning, modifying, or removing of names, symbols, displays, monuments, and paraphernalia to assets of the DoD that commemorate the Confederate States of America or any person who served voluntarily with the Confederate States of America.¹ In January 2023, the Secretary of Defense directed all DoD organizations to begin full implementation of the Naming Commission's recommendations. As approved by the Secretary of Defense, the name “Fort AP Hill, VA” is changed to “Fort Walker, VA”. Consequently, this rulemaking action implements the requisite changes to part 73 by updating the airspace descriptions of restricted areas R-6601A, R-6601B, and R-6601C to reflect the new name.

¹ Public Law 116-283, 134 Stat. 3388, Jan. 1, 2021.

Upon review of the restricted areas, the FAA identified four boundary points used in the boundary descriptions that must be amended to accurately align with U.S. Route 301 and U.S. Highway 17 used in the description.

Additionally, the FAA identified three boundary points to be included in the description that add additional precision to the alignment of U.S. Route 301 and create coincidence between adjacent SUA. These three additional boundary points must be included to ensure that there are no gaps between R-6601A, R-6601B, and R-6601C and the adjacent military operations area (MOA); and to ensure coincident alignment of the overlying boundaries of R-6601A, R-6601B, and R-6601C.

The Rule

This action amends 14 CFR part 73 by updating the airspace titles and using agency descriptions for restricted areas R-6601A, R-6601B, and R-6601C by removing the name “Fort AP Hill, VA” and replacing it with “Fort Walker, VA”.

The FAA is also amending four geographic coordinates in the description of Restricted Areas R-6601A, R-6601B, and R-6601C. These minor amendments to the geographic coordinates more accurately describe the intersection of each restricted area where it meets U.S. Route 301 and U.S. Highway 17 in Virginia. Updating these coordinates does not change the boundary of the restricted areas, but rather increases the accuracy of the roadway due to digital precision survey. The point “lat. 38°04′37″ N, long. 77°18′44″ W” is changed to “lat. 38°04′37″ N, long. 77°18′46″ W” in the description of R-6601A, R-6601B, and R-6601C. The point “lat. 38°09′45″ N, long. 77°11′59″ W” is changed to “lat. 38°09′48″ N, long. 77°11′59″ W”; and the point “lat. 38°07′50″ N, long. 77°08′29″ W” is changed to “lat. 38°07′49″ N, long. 77°08′29″ W” in the description of R-6601A. The point “lat. 38°09′38″ N, long. 77°12′07″ W” is changed to “lat. 38°09′39″ N, long. 77°12′08″ W” in the description of R-6601B and R-6601C.

Additionally, the FAA is adding three geographic coordinates to the description of Restricted Areas R-6601A, R-6601B, and R-6601C. These additional geographic coordinates add intermediate geographic points to the boundary of R-6601A, R-6601B, and R-6601C that further increases the accuracy of the alignment of U.S Route 301 and creates coincident boundary points between the adjacent MOA. The point “lat. 38°08′04″ N, long. 77°14′06″ W” is added to R-6601A, R-6601B, and R-6601C. The point “lat. 38°09′39″ N, long. 77°12′08″ W”; and the point “lat. 38°07′09″ N, long. 77°08′40″ W” are added to R-6601A.

This action consists of administrative name changes and minor technical amendments only and does not affect the boundaries, altitudes, time of designation, or activities conducted in the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative name changes; a technical amendment to four geographic coordinates; and adding 3 geographic coordinates in the description to restricted areas R-6601A, R-6601B, and R-6601C, which do not alter the boundaries, altitudes, or time of designation, qualifies for categorical exclusion under the National Environmental Policy Act (42 U.S.C. 4321 et seq.) and its implementing regulations at 40 CFR part 1500, and in accordance with FAA Order 1050.1F, Environmental Impacts: Policies and Procedures, paragraph 5-6.5d—Modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 73

Airspace, Prohibited areas, Restricted areas.

The Amendment

In consideration of the foregoing, the Federal Aviation Administration amends 14 CFR part 73 as follows:

PART 73—SPECIAL USE AIRSPACE

1. The authority citation for 14 CFR part 73 continues to read as follows:

Authority: 49 U.S.C. 106(f), 106(g); 40103, 40113, 40120; E.O. 10854, 24 FR 9565, 3 CFR, 1959-1963 Comp., p. 389.

§ 73.66 Virginia (VA) [Amended]

2. Section 73.66 is amended as follows:

R-6601A Fort A.P. Hill, VA [Removed]

R-6601B Fort A.P. Hill, VA [Removed]

R-6601C Fort A.P. Hill, VA [Removed]

R-6601A Fort Walker, VA [New]

Boundaries. Beginning at lat. 38°04′37″ N, long. 77°18′46″ W; thence along U.S. Route 301; to lat. 38°08′04″ N, long. 77°14′06″ W; thence along U.S. Route 301; to lat. 38°09′39″ N, long. 77°12′08″ W; thence along U.S. Route 301; to lat. 38°09′48″ N, long. 77°11′59″ W; thence along U.S. Highway 17; to lat. 38°07′49″ N, long. 77°08′29″ W; to lat. 38°07′09″ N, long. 77°08′40″ W; to lat. 38°05′30″ N, long. 77°09′05″ W; to lat. 38°04′40″ N, long. 77°10′19″ W; to lat. 38°03′12″ N, long. 77°09′34″ W; to lat. 38°02′22″ N, long. 77°11′39″ W; to lat. 38°02′30″ N, long. 77°14′39″ W; to lat. 38°01′50″ N, long. 77°16′07″ W; to lat. 38°02′15″ N, long. 77°18′03″ W; to lat. 38°02′40″ N, long. 77°18′59″ W; to the point of beginning.

Designated altitudes. Surface to but not including 4,500 feet MSL.

Time of designation. 0700 to 0200 local time daily. Other times by NOTAM at least 48 hours in advance.

Controlling agency. FAA, Potomac TRACON.

Using agency. U.S. Army, Commander, Fort Walker, VA.

R-6601B Fort Walker, VA [New]

Boundaries. Beginning at lat. 38°04′37″ N, long. 77°18′46″ W; thence along U.S. Route 301; to lat. 38°08′04″ N, long. 77°14′06″ W; thence along U.S. Route 301; to lat. 38°09′39″ N, long. 77°12′08″ W; to lat. 38°07′09″ N, long. 77°08′40″ W; to lat. 38°05′30″ N, long. 77°09′05″ W; to lat. 38°04′40″ N, long. 77°10′19″ W; to lat. 38°03′12″ N, long. 77°09′34″ W; to lat. 38°02′22″ N, long. 77°11′39″ W; to lat. 38°02′30″ N, long. 77°14′39″ W; to lat. 38°01′50″ N, long. 77°16′07″ W; to lat. 38°02′15″ N, long. 77°18′03″ W; to lat. 38°02′40″ N, long. 77°18′59″ W; to the point of beginning.

Designated altitudes. 4,500 feet MSL to but not including 7,500 feet MSL.

Time of designation. Intermittent by NOTAM at least 48 hours in advance.

Controlling agency. FAA, Potomac TRACON.

Using agency. U.S. Army, Commander, Fort Walker, VA.

R-6601C Fort Walker, VA [New]

Boundaries. Beginning at lat. 38°04′37″ N, long. 77°18′46″ W; thence along U.S. Route 301; to lat. 38°08′04″ N, long. 77°14′06″ W; thence along U.S. Route 301; to lat. 38°09′39″ N, long. 77°12′08″ W; to lat. 38°07′09″ N, long. 77°08′40″ W; to lat. 38°05′30″ N, long. 77°09′05″ W; to lat. 38°04′40″ N, long. 77°10′19″ W; to lat. 38°03′12″ N, long. 77°09′34″ W; to lat. 38°02′22″ N, long. 77°11′39″ W; to lat. 38°02′30″ N, long. 77°14′39″ W; to lat. 38°01′50″ N, long. 77°16′07″ W; to lat. 38°02′15″ N, long. 77°18′03″ W; to lat. 38°02′40″ N, long. 77°18′59″ W; to the point of beginning.

Designated altitudes. 7,500 feet MSL to 9,000 feet MSL.

Time of designation. Intermittent by NOTAM at least 48 hours in advance.

Controlling agency. FAA, Potomac TRACON.

Using agency. U.S. Army, Commander, Fort Walker, VA.

* * * * *

Issued in Washington, DC, on January 11, 2024.
Frank Lias,
Manager, Rules and Regulations Group.

[FR Doc. 2024-00804 Filed 1-16-24; 8:45 am]

BILLING CODE 4910-13-P